DEPARTMENT OF COMMERCE

National Institute of Standards and Technology

Announcement of a Meeting for the Proposed Autonomous Guided Vehicle Consortia

AGENCY: National Institute of Standards and Technology, Commerce.

ACTION: Notice of Public Meeting.

SUMMARY: The National Institute of Standards and Technology (NIST) invites interested parties to attend a meeting on November 1, 2006, at 9:30 a.m. at the NIST main campus in Gaithersburg, MD to discuss collaboration, between NIST and industry, in the Autonomous Guided Vehicle (AGV) Consortium. The objective of this meeting will be to briefly explain the proposed consortium tasks and to solicit interested AGV companies to join the consortium. The consortium is open to members joining prior to November 17, 2006. Beyond this date, joining the collaboration will not be allowed. The consortium will research advanced 3D imaging techniques for AGVs over a three phase effort.

DATES: The meeting will take place on Wednesday, November 1, 2006, at 9:30 a.m. Interested parties who wish to attend and participate in the meeting must inform NIST at the contact information shown below at least 48 hours prior to the meeting.

ADDRESSES: The meeting will take place at the National Institute of Standards and Technology (NIST), 100 Bureau Drive, Gaithersburg, MD 20899, Shops Building 304 Conference Room.

FOR FURTHER INFORMATION CONTACT: Roger Bostelman, Intelligent Systems Division, National Institute of Standards and Technology (NIST), 100 Bureau Drive MS 8230, Gaithersburg, MD 20899. Telephone (301) 975-3426; e-mail: roger.bostelman@nist.gov.

SUPPLEMENTARY INFORMATION: Any program undertaken will be within the scope and confines of The Federal Technology Transfer Act of 1986 (Pub.

L. 99-502, 15 U.S.C. 3710a), which provides federal laboratories including NIST, with the authority to enter into cooperative research agreements with qualified parties. Under this law, NIST may contribute personnel, equipment, and facilities but no funds to the cooperative research program. This is not a grant program.

Dated: October 3, 2006.
James E. Hill,
Acting Deputy Director.

[FR Doc. E6-16822 Filed 10-10-06; 8:45 am]

BILLING CODE 3510-13-P